ENVIRONMENTAL PROTECTION AGENCY

[EPA-HQ-OLEM-2025-0586; 12864-01-OLEM]

Financial Assurance Guidance for the Good Samaritan Remediation of Abandoned Hardrock Mines Act of 2024

AGENCY: Environmental Protection Agency (EPA).

ACTION: Notice.

SUMMARY: In the Good Samaritan Remediation of Abandoned Hardrock Mines Act of 2024, as part of the permit application, Good Samaritan applicants must provide financial assurance for every project. This document provides guidance in drafting and fulfilling the financial assurance components of Good Samaritan permits. This guidance defines relevant terms, discusses initial and modified cost estimates and financial assurance mechanisms, and describes how financial assurance may be accessed and released by the Environmental Protection Agency (EPA).

DATES: Comments must be received on or before September 12, 2025.

ADDRESSES: Submit your comments, referencing Docket ID No. EPA-HQ-OLEM-2025-0586 to EPA online using https://www.regulations.gov (our preferred method), or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI) or other information whose disclosure is restricted by statute.

FOR FURTHER INFORMATION CONTACT: Jamey Watt, Office of Mountains, Deserts and Plains, Environmental Protection Agency, 1200 Pennsylvania Ave. NW, Mail Code 5106P, Washington, DC 20460; telephone number: (202) 566-0196; email address: watt.jamey@epa.gov.

SUPPLEMENTARY INFORMATION: The Good Samaritan Remediation of Abandoned Hardrock Mines Act of 2024 (the Act) establishes a pilot program authorizing the Administrator of the EPA, among other things, to grant up to 15 Good Samaritan permits for low-risk projects designed to remediate abandoned hardrock mine sites. The Administrator may grant a permit only if, among other considerations, the applicant for that permit has demonstrated to the satisfaction of the Administrator that the applicant has, or has access to, the financial resources to complete the project or has established a third-party financial assurance mechanism. In the event a Good Samaritan does not complete permit requirements, financial assurance funds secured under a third-party mechanism are intended to provide funding to complete the permitted work and for the purpose of carrying out the Act without the use of taxpayer funds.

Lee Zeldin,
Administrator.

[FR Doc. 2025-15352 Filed 8-12-25; 8:45 am]

BILLING CODE 6560-50-P